DEPARTMENT OF ENERGY

Federal Energy Regulatory Commission

[Docket No. RP96-312-030]

Tennessee Gas Pipeline Company; Notice of Compliance Filing

July 19, 2000.

Take notice that on July 14, 2000 Tennessee Gas Pipeline Company (Tennessee), tendered for filing as part of its FERC Gas Tariff, Fifth Revised Volume No. 1, Ninth Revised Sheet No. 413, with an effective date of November 1, 2000.

Tennessee states that the purpose of the filing is to comply with the Commission's June 29, 2000 Letter Order in the referenced proceeding.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-18619 Filed 7-21-00; 8:45 am]

BILLING CODE 6717-01-M